FEDERAL COMMUNICATIONS COMMISSION

47 CFR Part 73

[DA 01-1438; MM Docket No. 00-160; RM-9928]

Radio Broadcasting Services; Pana, Taylorville, and Macon, IL

AGENCY: Federal Communications Commission.

ACTION: Final rule.

SUMMARY: The Commission, at the joint request of Kaskaskia Broadcasting, Inc. and Miller Communications, Inc., reallots Channel 265A from Pana to Macon, Illinois, and modifies Station WEGY(FM)'s license accordingly. We also reallot Channel 232A from Taylorville to Pana, Illinois, and modify Station WMKR(FM)'s license accordingly. See 65 FR 55930, September 15, 2000. Channel 265A can be reallotted to Macon in compliance with the Commission's minimum distance separation requirements with a site restriction of 6.9 kilometers (4.3 miles) south at Station WEGY(FM)'s requested site. The coordinates for Channel 265A at Macon are 39-41-08 North Latitude and 88-55-29 West Longitude. Additionally, Channel 232A can be reallotted to Pana in compliance with the Commission's minimum distance separation requirements with a site restriction of 11.7 kilometers (7.3 miles) west at Station WMKR(FM)'s requested site. The coordinates for Channel 232A at Pana are 39-22-56 North Latitude and 89-12-56 West Longitude.

DATES: Effective July 30, 2001.

FOR FURTHER INFORMATION CONTACT: Sharon P. McDonald, Mass Media Bureau, (202) 418-2180.

SUPPLEMENTARY INFORMATION: This is a synopsis of the Commission's Report and Order, MM Docket No. 00-160, adopted June 6, 2001, released June 15, 2001. The full text of this Commission decision is available for inspection and copying during normal business hours in the FCC Reference Information Center (Room CY-A257), 445 12th Street, SW, Washington, DC. The complete text of this decision may also be purchased from the Commission's copy contractors, International Transcription Service, Inc., (202) 857-3800, 1231 20th Street, NW., Washington, DC 20036.

List of Subjects in 47 CFR Part 73

Radio broadcasting.

Part 73 of title 47 of the Code of Federal Regulations is amended as follows:

PART 73—RADIO BROADCAST SERVICES

1. The authority citation for part 73 continues to read as follows:

Authority: 47 U.S.C. 54, 303, 334, and 336.

§ 73.202 [Amended]

2. Section 73.202(b), the Table of FM Allotments under Illinois, is amended by adding Macon, Channel 265A; and removing Channel 265A at Pana; and by adding Channel 232A at Pana; and removing Channel 232A at Taylorville.

Federal Communications Commission.
John A. Karousos,
Chief, Allocations Branch, Policy and Rules Division, Mass Media Bureau.

[FR Doc. 01-15975 Filed 6-25-01; 8:45 am]

BILLING CODE 6712-01-P